Presidential Determination No. 2003-29 of August 4, 2003

Presidential Determination Pursuant to Section 2(c)(1) of the Migration and Refugee Assistance Act of 1962, as Amended

Memorandum for the Secretary of State

Consistent with section (2)(c)(1) of the Migration and Refugee Assistance Act of 1962, as amended, 22 U.S.C. 2601(c)(1), I hereby determine that it is important to the national interest that up to $26 million be made available from the U.S. Emergency Refugee and Migration Assistance Fund for a contribution to the United Nations Relief and Works Agency for Palestine Refugees in the Near East (UNRWA) to meet unexpected, urgent refugee needs in the West Bank and Gaza.

You are authorized and directed to inform the appropriate committees of the Congress of this determination and the obligation of funds under this authority, and to arrange for the publication of this memorandum in the Federal Register.

B

THE WHITE HOUSE,

Washington, August 4, 2003.

[FR Doc. 03-20504

Filed 8-8-03; 8:45 am]

Billing code 4710-10-P